FEDERAL COMMUNICATIONS COMMISSION

47 CFR Part 73

[DA 00-1902; MM Docket No. 99-239; RM-9658]

Radio Broadcasting Services; Johannesburg and Edwards, California.

AGENCY: Federal Communications Commission.

ACTION: Final rule.

SUMMARY: The Commission, at the request of Adelman Communications, Inc., substitutes Channel 280A for Channel 280B1 at Johannesburg, California, and reallots Channel 280A to Edwards, California, as the community's first local aural service. See 64 FR 36322 (July 6, 1999). Channel 280A can be allotted at Edwards in compliance with the Commission's minimum distance separation requirements, with respect to domestic allotments, at petitioner's requested site 9.2 kilometers (5.7 miles) at coordinates 34-59-40 and 117-59-32. Comments filed by Regent Communications, Inc., High Desert Broadcasting Co., and Amaturo Group of LA., Ltd., are dismissed.

DATES: Effective October 2, 2000.

ADDRESSES: Federal Communications Commission, Washington, D.C. 20554.

FOR FURTHER INFORMATION CONTACT: Victoria M. McCauley, Mass Media Bureau, (202) 418-2180.

SUPPLEMENTARY INFORMATION: This is a synopsis of the Commission's Report and Order, MM Docket No. 99-239, adopted August 9, 2000, and released August 18, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

47 CFR PART 73—[AMENDED]

1. The authority citation for part 73 continues to read as follows:

Authority: 47 U.S.C. 154, 303, 334, and 336.

2. Section 73.202(b), the Table of FM Allotments under California, is amended by removing Channel 280B1 at Johannesburg and adding Edwards, Channel 280A.

Federal Comunications Commission.
John A. Karousos,
Chief, Allocations Branch, Policy and Rules Division, Mass Media Bureau.

[FR Doc. 00-22563 Filed 9-1-00; 8:45 am]

BILLING CODE 6712-01-P